DEPARTMENT OF HEALTH AND HUMAN SERVICES

Centers for Disease Control and Prevention

Amended Order Implementing Presidential Proclamation on Advancing the Safe Resumption of Global Travel During the COVID-19 Pandemic

AGENCY: Centers for Disease Control and Prevention (CDC), Department of Health and Human Services (HHS).

ACTION: Notice of agency amended order.

SUMMARY: On October 25, 2021, the President issued a Proclamation, “Advancing the Safe Resumption of Global Travel During the COVID-19 Pandemic.” Pursuant to this Proclamation, the President has implemented a global suspension and restriction on entry for noncitizens who are nonimmigrants seeking to enter the United States by air travel and who are not fully vaccinated against COVID-19. The Proclamation directs the Secretary of Health and Human Services (HHS), through the Director of the Centers for Disease Control and Prevention (CDC), to implement the Proclamation as it applies to public health. As such, CDC announces an Amended Order implementing the Proclamation requiring noncitizens who are nonimmigrants seeking to enter the United States by air travel to provide proof of being fully vaccinated against COVID-19 prior to boarding an aircraft to fly to the United States, with only limited exceptions in accordance with the Proclamation. This Amended Order was signed by the CDC Director on October 30, 2021, and supersedes the previous Order signed by the CDC Director on October 25, 2021.

DATES: This Amended Order will become effective at 12:01 a.m. EST on November 8, 2021.

FOR FURTHER INFORMATION CONTACT: Jennifer Buigut, Division of Global Migration and Quarantine, Centers for Disease Control and Prevention, 1600 Clifton Road NE, MS H16-4, Atlanta, GA 30329. Telephone: 404-498-1600. Email: dgmqpolicyoffice@cdc.gov.

SUPPLEMENTARY INFORMATION: The President implemented a global suspension and restriction on entry for noncitizens who are nonimmigrants seeking to enter the United States by air travel and who are not fully vaccinated against COVID-19, with only limited exceptions. The Proclamation does not apply to crew members of airlines or other aircraft operators if they follow industry standard protocols for the prevention of COVID-19.

In accordance with the Proclamation and CDC's Amended Order, Covered Individuals (noncitizens who are nonimmigrants, excluding air crew) seeking to enter the United States by air travel and who are not fully vaccinated against COVID-19 may board an aircraft destined for the United States only if they qualify as Excepted Covered Individuals. Noncitizens who are nonimmigrants, excluding air crew, must also provide the airline or aircraft operator with a Covered Individual Attestation.

A copy of the Amended Order and Attestation Form is below. A copy of these documents and Technical Instructions can be found at: https://www.cdc.gov/quarantine/order-safe-travel.html.

Centers for Disease Control and Prevention (CDC)

Department of Health and Human Services (HHS)

Amended Order Implementing Presidential Proclamation on Advancing the Safe Resumption Of Global Travel During the Covid-19 Pandemic

SUMMARY

On October 25, 2021, the President issued a Proclamation pursuant to Sections 1182(f) and 1185(a)(1) of Title 8, and Section 301 of Title 3, United States Code, (the “Proclamation”), titled, “Advancing the Safe Resumption of Global Travel During the COVID-19 Pandemic.” Pursuant to this Proclamation, the President has implemented a global suspension and restriction on entry for noncitizens who are nonimmigrants seeking to enter the United States by air travel and who are not fully vaccinated against COVID-19. The Proclamation directs the Secretary of Health and Human Services (HHS), through the Director of the Centers for Disease Control and Prevention (CDC), to implement the Proclamation as it applies to public health in accordance with appropriate public health protocols and consistent with CDC's independent public health judgment. This Order and accompanying Technical Instructions implement the President's direction.

The Proclamation does not alter the obligation of persons, including persons whose entry is not covered by the Proclamation, to comply with the applicable requirements of CDC Orders, including:

• Requirement for Proof of Negative COVID-19 Test or Recovery from COVID-19 for All Air Passengers Arriving in the United States (published at 86 FR 7387, January 28, 2021) (as may be further amended);

• Requirement for Persons to Wear Masks While on Conveyances and at Transportation Hubs (published at 86 FR 8025, February 3, 2021) (as may be further amended); and

• Other CDC Orders that may be published relating to preventing the introduction, transmission, and spread of COVID-19 into and throughout the United States.

This Amended Order supersedes the previous Order signed by the CDC Director on October 25, 2021, implementing the President's direction. This Order shall enter into effect at 12:01 a.m. EST (5:01 a.m. GMT) on November 8, 2021.

Definitions

Accepted COVID-19 Vaccine means:

• A vaccine authorized for emergency use or approved by the U.S. Food and Drug Administration; ¹ or

¹ For a list of vaccines approved or authorized in the United States to prevent COVID-19, see https://www.cdc.gov/coronavirus/2019-ncov/vaccines/different-vaccines.html

• A vaccine listed for emergency use (EUL) by the World Health Organization (WHO); ² or

² See WHO's website for more information about WHO-listed COVID-19 vaccines.

• A vaccine or combination of vaccines ³ listed by CDC in Technical Instructions to this Order.

³ CDC has not recommended the use of heterologous (i.e., “mix-and-match”) primary series. However, the use of such strategies (including mixing of mRNA, adenoviral, and mRNA plus adenoviral products) is increasingly common in many countries outside of the United States. Accordingly, additional vaccinations or combinations of vaccinations may be listed in CDC's Technical Instructions to this Order for purposes of the interpretation of vaccination records.

Covered Individual means any passenger covered by the Proclamation and this Order: A noncitizen ⁴ who is a nonimmigrant seeking to enter the United States by air travel. This term does not apply to crew members of airlines or other aircraft operators if such crewmembers and operators adhere to all industry standard protocols for the prevention of COVID-19, as set forth in relevant guidance for crewmember health issued by the CDC or by the Federal Aviation Administration in coordination with the CDC.

⁴ For purposes of the Order, U.S. lawful permanent residents and U.S. nationals will be treated in the same manner as U.S. citizens.

Excepted Covered Individual means a Covered Individual who is not fully vaccinated against COVID-19 and meets the criteria for an exception under the Proclamation and this Order.

Covered Individual Attestation means the attestation in Attachment A, ⁵ in written or electronic form, that must be completed by each Covered Individual who is permitted to enter the United States under the Proclamation and this Order.

⁵ CDC encourages airlines and aircraft operators to incorporate the attestation into paperless check-in processes. An airline or aircraft operator may use a third party (including a third-party application) to collect attestations, including to provide translations. However, an airline or aircraft operator will have sole legal responsibility to provide and collect attestations, to ensure the accuracy of any translation, and to comply with all other obligations under agency directives implementing the Proclamation. An airline or aircraft operator is responsible for any failure of a third party to comply with such directives. An airline or aircraft operator may not shift any legal responsibility to a third party.

Foreign country means anywhere that is not a state, territory, or possession of the United States.

Foreign Country with Limited COVID-19 Vaccine Availability means a foreign country where less than 10 percent of the country's total population has been fully vaccinated with any available COVID-19 vaccine. These countries are listed by CDC in Technical Instructions.

Fully Vaccinated Against COVID-19 means it has been:

• 2 weeks (14 days) or more since a person received one dose of an accepted single-dose-series COVID-19 vaccine; OR

• 2 weeks (14 days) or more since a person's second dose in a 2-dose series of an accepted COVID-19 vaccine; OR

• 2 weeks (14 days) or more since a person received the full series of an “active” (not placebo) COVID-19 vaccine in the U.S.-based AstraZeneca or Novavax COVID-19 vaccine trials; OR

• 2 weeks (14 days) or more since the person received a complete series of a vaccine or combination of vaccines listed by CDC in Technical Instructions.

Not Fully Vaccinated Against COVID-19 means a person does not meet the definition of Fully Vaccinated Against COVID-19.

Proof of Being Fully Vaccinated Against COVID-19 means a paper or digital format of a vaccination record or a verifiable vaccination record, as listed by CDC in Technical Instructions, confirming that the person is Fully Vaccinated Against COVID-19.

Self-isolation means, for purposes of this Order, actions taken by an Excepted Covered Individual who tests positive on a viral test for COVID-19 administered on a specimen collected 3-5 days after arriving in the United States or develops COVID-19 symptoms. These actions include:

• separating from other individuals, staying in a home or other residence for at least 10 days after symptom onset and after resolution of fever for at least 24 hours and improvement of other symptoms; or

• separating from other individuals, staying in a home or other residence for 10 days after the first positive test if asymptomatic;

AND

• observing other public health precautions as set forth in CDC guidance.⁶

⁶ Quarantine and Isolation, available at https://www.cdc.gov/coronavirus/2019-ncov/your-health/quarantine-isolation.html.

Self-quarantine means, for purposes of this Order, actions taken by an Excepted Covered Individual to separate from other individuals after arriving in the United States, including staying in a home or other residence for a full 7 days and observing public health precautions as set forth in CDC guidance.⁷

⁷ Ibid.

Viral test means a viral detection test for current infection (i.e., a nucleic acid amplification test [NAAT] or a viral antigen test) approved or authorized by the U.S. Food and Drug Administration for the detection of SARS-CoV-2.

United States or U.S. has the same definition as “United States” in 42 CFR 71.1(b), meaning “the 50 States, District of Columbia, and the territories (also known as possessions) of the United States, including American Samoa, Guam, the Northern Mariana Islands, the Commonwealth of Puerto Rico, and the U.S. Virgin Islands.”

Background

Since January 2020, the respiratory disease known as “COVID-19,” caused by a novel coronavirus (SARS-CoV-2), has spread globally, including cases reported in all 50 states within the United States, plus the District of Columbia and all U.S. territories. As of October 22, 2021, there have been over 242,000,000 million cases of COVID-19 globally, resulting in over 4,900,000 deaths.⁸ More than 45,000,000 cases have been identified in the United States, with new cases reported daily, and over 733,000 deaths attributed to the disease.⁹ A renewed surge in cases in the United States began in early July 2021; daily case counts rose from 19,000 cases on July 1, 2021 to 159,000 cases on September 1, 2021. While cases are currently decreasing in the United States, during the entirety of this pandemic, cases have tended to surge in waves, including after high-volume travel periods, with four waves as of October 2021.¹⁸ Therefore, additional surges of cases and deaths are very possible.

⁸ COVID-19 Map—Johns Hopkins Coronavirus Resource Center (jhu.edu).

⁹ CDC COVID Data Tracker.

The United States is taking a multi-layered approach to combatting COVID-19, concurrently preventing and slowing the continued introduction of cases and further spread of the virus within U.S. communities. Vaccination is the most important measure for reducing risk for SARS-CoV-2 transmission and in avoiding severe illness, hospitalization, and death. Studies so far show that vaccinated people are five times less likely to be infected and more than 10 times less likely to experience hospitalization or death than people who are not fully vaccinated against COVID-19.¹⁰

¹⁰ The Possibility of COVID-19 after Vaccination: Breakthrough Infections, https://www.cdc.gov/coronavirus/2019-ncov/vaccines/effectiveness/why-measure-effectiveness/breakthrough-cases.html.

On October 25, 2021, the President issued a Proclamation under 3 U.S.C. 301 and 8 U.S.C. 1182(f), 1185(a)(1), titled, “Advancing the Safe Resumption of Global Travel During the COVID-19 Pandemic.” The Proclamation revokes prior, country-specific presidential proclamations issued under these authorities in response to the outbreak of COVID-19. In their place, the President has implemented a global suspension and restriction on entry for noncitizens who are nonimmigrants seeking to enter the United States by air travel and who are not fully vaccinated against COVID-19, with only limited exceptions. This Amended Order and accompanying technical instructions implement the President's Proclamation. As further explained in this Amended Order, CDC will be implementing the Proclamation, among other ways, through a requirement that certain Excepted Covered Individuals who are unable to present Proof of Being Fully Vaccinated Against COVID-19 instead present a Covered Individual Attestation to the airline or aircraft operator prior to boarding the aircraft.

Persons Whose Entry Is Not Covered by the Proclamation or Who are Eligible for an Exception to the Requirement To Present Proof of Being Fully Vaccinated Against COVID-19

The Proclamation applies only to non-U.S. citizens seeking entry as nonimmigrants. Individuals seeking entry to the United States as immigrants are subject to the medical examination and vaccination requirements of 8 U.S.C. 1182(a)(1)(A) and 42 CFR part 34. These requirements are further described in CDC's COVID-19 Technical Instructions for Panel Physicians.¹¹

¹¹ https://www.cdc.gov/immigrantrefugeehealth/panel-physicians/covid-19-technical-instructions.html.

The Proclamation does not apply to crew members of airlines or other aircraft operators if they follow industry standard protocols for the prevention of COVID-19.¹² Accordingly, per the terms of the Proclamation, these individuals are not Covered Individuals and are not required to present Proof of Being Fully Vaccinated nor required to present a completed Covered Individual Attestation to the airline or aircraft operator before boarding an aircraft destined to the United States.

¹² Crew members on official duty assigned by the airline or operator that involves operation of aircraft, or the positioning of crew not operating the aircraft (i.e., on “deadhead” status), are exempt from the requirements of the Order provided their assignment is under an air carrier's or operator's occupational health and safety program that follows applicable industry standard protocols for the prevention of COVID-19 as set forth in relevant Safety Alerts for Operators (SAFOs) issued by the Federal Aviation Administration (FAA), i.e., SAFO 20009, COVID-19: Updated Interim Occupational Health and Safety Guidance for Air Carriers and Crews, available at https://www.faa.gov/other_visit/aviation_industry/airline_operators/airline_safety/safo/all_safos/media/2020/SAFO20009.pdf. CDC will provide further information in Technical Instructions.

The Proclamation permits Excepted Covered Individuals to enter the United States by air if they meet certain criteria as determined by the CDC. Except where otherwise indicated, these Excepted Covered Individuals will be required to present a Covered Individual Attestation to the airline or aircraft operator before boarding an aircraft destined to the United States. These categories include:

Diplomatic and Official Foreign Government Travel. The Proclamation excepts any noncitizen seeking entry into or transiting the United States for certain diplomatic or official foreign government activities. This includes:

• Noncitizens traveling pursuant to one of the following nonimmigrant visa classifications: A-1, A-2, C-2, C-3 (as a foreign government official or immediate family member of an official), E-1 (as an employee of TECRO or TECO or the employee's immediate family members), G-1, G-2, G-3, G-4, NATO-1 through NATO-4, or NATO-6 (or seeking to enter as a nonimmigrant in one of those NATO classifications); or

• Any noncitizen whose travel falls within the scope of section 11 of the United Nations Headquarters Agreement or other travel pursuant to a United States legal obligation (as evidenced by a letter of invitation from the United Nations or other documentation showing the purpose of such travel). Such an individual will need to present an official letter, such as a letter from the U.S. government or foreign government to the airline or aircraft operator. If invited by the United Nations, such an individual will need to present to the airline or aircraft operator a letter of invitation from the United Nations or other documentation showing the purpose of such travel.

These persons will be required to provide the Covered Individual Attestation to the airline or aircraft operator before boarding an aircraft destined to the United States. Such individuals must also attest to agreeing and arranging to be vaccinated within 60 days of arriving in the United States, or as soon thereafter as is medically appropriate as determined by CDC, if they intend to stay in the United States for more than 60 days and have received no vaccine series. If such an individual has previously received a COVID-19 vaccine that is authorized or approved by the noncitizen's country of nationality but is not an Accepted COVID-19 Vaccine, then the individual will not need to agree or arrange to be vaccinated in the United States. In addition, if the CDC Director, in consultation with the Secretary of State, determines that the individual cannot complete the requirements of the Covered Individual Attestation consistent with the purposes of their official foreign government activities, then the individual is not required to attest to agreeing and arranging to complete the requirements of the Covered Individual Attestation.

Children. The Proclamation excepts noncitizens who are nonimmigrants for whom, given their age, requiring vaccination would be inappropriate, as determined by the CDC, taking into account global vaccine availability for individuals in that age group. In the United States, COVID-19 vaccinations are widely available for adolescents, with a vaccine approved for those 16 years and older and authorized for those 12 to 15 years of age. However, the same availability does not exist globally. Accordingly, considering the difficulty potentially posed to families traveling together when some members of the family can be vaccinated and others cannot, persons under the age of 18 years meet the age-based exception in the Proclamation.

Noncitizens who are nonimmigrants and who are under the age of 18 years and unable to present Proof of Being Fully Vaccinated Against COVID-19 must present a completed Covered Individual Attestation to the airline or aircraft operator prior to embarking an aircraft destined to the United States. However, as part of this attestation, children under the age of 18 will not be required to attest (or have a parent or guardian attest on their behalf) to having arranged to self-quarantine in the United States after arrival. Based on the potential difficulty that self-quarantine may pose to children under 18 years of age especially when accompanied by a vaccinated parent or guardian who is not required to self-quarantine, CDC has determined that self-quarantine should not be required. Nevertheless, children under 18 years of age will be required to attest (or have a parent or guardian attest on their behalf) to arranging to be tested for COVID-19 3-5 days after arrival and to self-isolate if the test result should be positive or if the child develops COVID-19 symptoms. CDC believes that this approach fairly balances the interests of families traveling to the United States with protecting the public's health. CDC guidance strongly recommends vaccination for all eligible children under 18. However, given the still evolving circumstances of vaccination for children, attestation regarding post-arrival vaccination will also not be required for children under 18 at this time. This determination will be periodically reevaluated.

Clinical Trials. The Proclamation excepts noncitizens who are nonimmigrants and who have participated or are participating in certain clinical trials for COVID-19 vaccination, as determined by the CDC. Qualifying vaccine candidates will be specified in CDC's Technical Instructions to this Order. Because these clinical trial participants may have taken a COVID-19 vaccine or series of COVID-19 vaccines that do not meet the definition of an Accepted COVID-19 Vaccine, these participants may not be able to present Proof of Being Fully Vaccinated Against COVID-19. Accordingly, noncitizens who are nonimmigrants and who have participated or are participating in certain COVID-19 vaccine trials and unable to present Proof of Being Fully Vaccinated Against COVID-19 must present a completed Covered Individual Attestation to the airline or aircraft operator prior to embarking an aircraft destined to the United States. However, CDC has determined that these individuals should not be required to attest to agreeing and arranging to self-quarantine or to be vaccinated after arriving in the United States. Requiring self-quarantine after arrival could potentially discourage clinical trial participants which would not serve the interests of public health and requiring vaccination could potentially invalidate the clinical trial study. Nevertheless, these individuals will be required to attest to arranging to be tested for COVID-19 3-5 days after arrival and to self-isolate if the test result should be positive or if they develop COVID-19 symptoms.

Medical Contraindications. The Proclamation excepts noncitizens who are nonimmigrants for whom receiving an accepted COVID-19 vaccine is medically contraindicated as determined by a licensed physician.¹³ Accordingly, individuals with medical contraindications to an accepted COVID-19 vaccine (e.g., a demonstrated anaphylactic reaction to a prior dose of a COVID-19 vaccine or vaccine component), as further described in CDC's Technical Instructions to this Order, are not required to present Proof of Being Fully Vaccinated Against COVID-19. COVID-19 vaccinations have been overwhelmingly proven to be safe and effective at preventing severe illness, hospitalizations, and deaths from COVID-19. However, as is the case with any vaccine, certain medical complications can occur, such as a severe allergic reaction. CDC intends for this exception to be applied in strict accordance with scientific evidence and will provide additional details concerning exceptions for medical contraindications in CDC's Technical Instructions to this Order. Persons granted an exception based on medical contraindications will be required to present a Covered Individual Attestation to the airline or aircraft operator prior to embarking an aircraft destined to the United States but are not required to attest to agreeing and arranging to be vaccinated after arriving in the United States.

¹³ Objections to vaccination based on religious or moral convictions do not qualify under this or any other exception listed in the Proclamation or this Order.

Humanitarian and Emergency Exceptions. The Proclamation excepts any noncitizen nonimmigrant who has been granted an exception by the CDC for humanitarian or emergency reasons, as determined by the CDC. CDC will apply this exception extremely narrowly, such as when an individual must travel to the United States to preserve health and safety (e.g., emergency medical evacuations) and is unable to complete the vaccination requirement before travel. Individuals and organizations sponsoring individuals who fit the exception criteria should contact the U.S. embassy or consulate in or nearest the country from which they are departing for the United States. The embassy will then transmit this information to the CDC for consideration. Any noncitizen who is a nonimmigrant granted an exception for humanitarian or emergency reasons must present an official U.S. government letter and a completed Covered Individual Attestation to the airline or aircraft operator prior to embarking an aircraft destined to the United States. Such individual must also attest to agreeing and arranging to be vaccinated within 60 days of arriving in the United States, or as soon thereafter as is medically appropriate as determined by CDC, if they intend to stay in the United States for more than 60 days.

Limited Vaccine Availability. The Proclamation excepts any noncitizen who is a nonimmigrant with a nonimmigrant visa (excluding a B-1 or B-2 visa) and who is a citizen of a Foreign Country with Limited COVID-19 Vaccine Availability, which is defined pursuant to the Proclamation and this Order as a foreign country where less than 10 percent of the country's total population has been fully vaccinated with any available COVID-19 vaccine or is otherwise determined by the Director of the CDC to qualify as a country where the availability of COVID-19 vaccination is limited. The list of countries falling below the 10 percent threshold will be maintained by CDC in Technical Instructions to this Order and will be reviewed on a regular basis. In developing and maintaining this list, CDC will rely on official source data as reported by foreign ministries of health but may also rely on other sources such as additional information provided by U.S. embassies and consulates. Currently, 50 countries report having less than 10 percent of their populations fully vaccinated against COVID-19.¹⁴

¹⁴ CDC COVID Data Tracker: Global COVID-19 Vaccination.

Individuals entering the United States under this exception must present a completed Covered Individual Attestation to the airline or aircraft operator prior to embarking an aircraft destined to the United States. Additionally, these individuals must attest to agreeing and arranging to be vaccinated within 60 days of arriving in the United States, or as soon thereafter as is medically appropriate as determined by CDC, if they intend to stay in the United States for more than 60 days.

Members of the U.S. Armed Forces. The Proclamation excepts noncitizens who are members of the U.S. Armed Forces and spouses or children of members of the U.S. Armed Forces. CDC intends to apply this exception in a similar manner as in the CDC Order, “Requirement for Proof of Negative COVID-19 Test or Recovery from COVID-19 for All Air Passengers Arriving in the United States.” U.S. Armed Forces observe U.S. Department of Defense guidance to prevent the transmission of COVID-19 as set forth in Force Protection Guidance Supplement 20—Department of Defense Guidance for Personnel Traveling During the Coronavirus Disease 2019 Pandemic (April 12, 2021). Accordingly, members of the U.S. Armed Forces, and their spouses and children, if traveling with a U.S. military identification document or other proof of status as a member or spouse or child (under 18 years of age) of a member of the U.S. Armed Forces, must attest to their status on the Covered Individual Attestation, but will not be required to attest to agreeing and arranging to complete the requirements of the Covered Individual Attestation.

Sea Crew Members. The Proclamation excepts any noncitizen seeking entry as a sea crew member traveling pursuant to a C-1 and D nonimmigrant visa, if such crew member adheres to all industry standard protocols for the prevention of COVID-19, as set forth in relevant guidance for crew member health by the CDC.¹⁵ Any passenger granted an exception as a Sea Crew Member must present documentation to the airline from their employer indicating that their entry to the United States is required for the purpose of operating a vessel that will depart from a U.S. seaport. Individuals entering the United States under this exception must present a completed Covered Individual Attestation to the airline or aircraft operator prior to embarking an aircraft destined to the United States. Additionally, these individuals must attest to agreeing and arranging to be vaccinated within 60 days of arriving in the United States, or as soon thereafter as is medically appropriate as determined by CDC, if they intend to stay in the United States for more than 60 days.

¹⁵ See CDC's Technical Instructions for this Order for additional information regarding post-arrival public health management of sea crew. Relevant CDC guidance pertaining to sea crew members serving on board cruise ships has been issued as part of the Temporary Extension and Modification of the Conditional Sail Order (available at https://www.cdc.gov/quarantine/cruise/covid19-cruiseships.html). Additional guidance applicable to crew serving onboard all vessels is available at https://www.cdc.gov/quarantine/maritime/recommendations-for-ships.html.

National Interest Exception. The Proclamation excepts any noncitizen or group of noncitizens whose entry is in the U.S. national interest, as determined by the Secretary of State, the Secretary of Transportation, or the Secretary of Homeland Security, or their designees. Any Excepted Covered Individual granted an exception in the national interest must present an official U.S. government letter and a completed Covered Individual Attestation to the airline or aircraft operator prior to embarking an aircraft destined to the United States. Such an individual must also attest to agreeing and arranging to be vaccinated within 60 days of arriving in the United States, or as soon thereafter as is medically appropriate, if they intend to stay in the United States for more than 60 days.

Requirement To Provide an Covered Individual Attestation for an Excepted Covered Individual Who Is Unable To Present Proof of Being Fully Vaccinated

Covered Individuals seeking to enter the United States by air travel and who are not Fully Vaccinated Against COVID-19 may embark an aircraft destined for the United States only if they qualify as Excepted Covered Individuals pursuant to the Proclamation. Under the Proclamation, such individuals must agree that they will comply with applicable public health precautions established by CDC to protect against the public health risk posed by these travelers entering into the United States. These include:

• Providing proof in the form of an attestation of pre-departure testing for COVID-19, as determined by the CDC;

• taking precautions during air travel to protect against the further introduction, transmission, and spread of COVID-19, including by complying with the requirement to wear a face mask, as determined by the CDC;

• providing proof in the form of an attestation of having arranged for post-arrival testing for COVID-19, as determined by the CDC; and

• providing proof in the form of an attestation of having arranged to self-quarantine or self-isolate after arriving in the United States, as determined by the CDC.

Some categories of Excepted Covered Individuals (subject to certain exceptions) must agree to become fully vaccinated against COVID-19 within 60 days ¹⁶ of arriving in the United States if the individual intends to stay in the United States for more than 60 days, or as soon thereafter as is medically appropriate as determined by the CDC, and must provide proof in the form of an attestation of having agreed and arranged to become fully vaccinated against COVID-19 after arriving in the United States.

¹⁶ CDC concurs that 60 days is the appropriate time frame for requiring that persons arriving in the United States be fully vaccinated against COVID-19. The mRNA COVID-19 vaccines (Pfizer-BioNTech and Moderna) available in the United States are administered 3-4 weeks apart (see https://www.cdc.gov/coronavirus/2019-ncov/vaccines/different-vaccines.html). It takes 14 days after the 2nd dose to be considered fully vaccinated. Therefore, it is reasonable to conclude that individuals should be able to complete the vaccination series and the 14-day period within 60 days of arriving in the United States.

The Proclamation directs the HHS Secretary, acting through the CDC Director, to implement the Proclamation as it applies to public health consistent with CDC's independent public health judgment. In accordance with the President's direction, this Amended Order requires that, to travel to the United States by air travel, an Excepted Covered Individual who is unable to present Proof of Being Fully Vaccinated Against COVID-19 must present a Covered Individual Attestation to the airline or aircraft operator prior to embarking the aircraft.

The Covered Individual Attestation must be completed, in written or electronic form, by the Excepted Covered Individual and is subject to 18 U.S.C. 1001. As further explained in the attached Attestation form (Attachment A), persons who knowingly submit false information may be subject to fines, imprisonment, and other penalties. Airlines or other aircraft operators, as directed by the Transportation Security Administration (TSA), including through a forthcoming Security Directive to be issued after consultation with CDC, and consistent with this Amended Order, will be required to retain a copy of the Covered Individual Attestation for 2 years; however, individuals are not required to retain a copy of the attestation in their possession upon arriving in the United States.

Future CDC orders implementing the Proclamation may require other public health measures consistent with the Proclamation to protect against the further introduction, transmission, and spread of COVID-19 into the United States by Covered Individuals.

This Amended Order clarifies certain ambiguity that existed at the time of the issuance of the Order on October 25, 2021, regarding the requirement for post-arrival quarantine for children under 18 years of age and participants in certain COVID-19 clinical trials. This Amended Order clarifies that such individuals are not required to attest to having to agree and arrange to self-quarantine after arriving in the United States. Therefore, to the extent that this ambiguity would have caused these individuals to self-quarantine, this ambiguity is now clarified and accordingly relieves these individuals of what may have otherwise been perceived as an obligation. It is imperative that these amendments be issued without delay so that these individuals may have the necessary clarity to arrange their travel plans in accordance with the requirements of this Amended Order.

This Amended Order is not a rule within the meaning of the Administrative Procedure Act (“APA”) but rather an Order implementing the President's Proclamation, which itself is not subject to the APA. Additionally, considering the President's Proclamation is effective on November 8, 2021, it is imperative that CDC issue this Amended Order without delay. If this Amended Order qualifies as a new rule under the APA, notice and comment and a delay in effective date are not required because there is good cause to dispense with prior public notice and comment and a delay in effective date. See 5 U.S.C. 553(b)(B), (d)(3).

Considering the rapid and unpredictable developments in the public health emergency caused by COVID-19, it would be impracticable and contrary to the public's health, and by extension the public's interest, to delay the issuance and effective date of this Amended Order implementing the President's Proclamation. Further delay could increase risk of transmission and importation of additional undetected cases of SARS-CoV-2 Delta variant or other emerging variants through not fully vaccinated passengers.

This Amended Order is also an economically significant regulatory action under Executive Order 12866 and has therefore been reviewed by the Office of Information and Regulatory Affairs of the Office of Management and Budget. Similarly, the Office of Information and Regulatory Affairs has determined that if this Order were a rule, it would be a major rule under Subtitle E of the Small Business Regulatory Enforcement Fairness Act of 1996 (the Congressional Review Act), 5 U.S.C. 804(2), but there would not be a delay in its effective date as the agency has determined that there would be good cause to make the requirements herein effective immediately under the APA, 5 U.S.C. 808(2).

If any provision of this Amended Order implementing the President's Proclamation, or the application of any provision to any carriers, persons, or circumstances, shall be held invalid, the remainder of the provisions, or the application of such provisions to any carriers, persons, or circumstances other than those to which it is held invalid, shall remain valid and in effect.

Pursuant to 5 U.S.C. 553(b)(B), and for the reasons stated above, I hereby conclude that notice-and-comment rulemaking would defeat the purpose of this Amended Order implementing the President's Proclamation and endanger the public health, and is, therefore, impracticable and contrary to the public interest. For the same reasons, I have determined, consistent with 5 U.S.C. 553(d)(3), that there is good cause to make this Amended Order implementing the President's Proclamation effective without a 30-day delay in effective date.

Action

Accordingly, for the reasons set forth in the Proclamation and in this Order:

1. Directions to Airlines & Other Aircraft Operators

As directed by TSA, including through a forthcoming Security Directive to be issued after consultation with CDC, and consistent with this Order, any airline or other aircraft operator transporting by air into the United States individuals who are Covered Individuals from any foreign country, as determined and confirmed by the airline or other aircraft operator, will be required to:

A. Confirm that every Covered Individual, unless excepted, prior to boarding the aircraft, has presented paper or digital documentation of Proof of Being Fully Vaccinated Against COVID-19 that includes personal identifiers (e.g., name and date of birth) that matches the personal identifiers on the passenger's passport or other travel documents, and provides a Covered Individual Attestation.

B. Confirm that every Covered Individual who has not presented Proof of Being Fully Vaccinated Against COVID-19 prior to boarding the aircraft, has presented documentation proving that they are an Excepted Covered Individual under the Proclamation and this Order as further explained by CDC in Technical Instructions for this Order.

C. Confirm that every Excepted Covered Individual who has not presented Proof of Being Fully Vaccinated Against COVID-19, prior to boarding the aircraft, provides a Covered Individual Attestation, as applicable and as further explained in CDC Technical Instructions to this Order, attesting to the following:

a. Being excepted from the requirement to present Proof of Being Fully Vaccinated Against COVID-19 for one of the reasons set forth in the Proclamation and this Order;

b. having arranged to be tested with a COVID-19 viral test 3-5 days after arriving in the United States, unless the Excepted Covered Individual has documentation of having recovered from COVID-19 in the past 90 days;

c. having arranged to self-quarantine, even if the test result to the post-arrival viral test is negative, unless the Excepted Covered Individual has documentation of having recovered from COVID-19 in the past 90 days; and

d. having arranged to self-isolate if the result of the post-arrival viral test is positive or if they develop COVID-19 symptoms.

D. Confirm that every Excepted Covered Individual who does not present Proof of Being Fully Vaccinated Against COVID-19, provides a Covered Individual Attestation, as applicable and as further explained in CDC Technical Instructions to this Order, attesting to the following:

a. Agreeing to be vaccinated and having arranged to become fully vaccinated against COVID-19 within 60 days after arriving in the United States, or as soon thereafter as is medically appropriate as determined by CDC, if such person intends to stay in the United States for more than 60 days, unless the individual is excepted from this requirement.

E. Not board any Covered Individual without confirming the documentation as set forth in A, B, C, or D of this section.

The attestation is attached to this order as Attachment A.¹⁷

¹⁷ CDC has provided a combined passenger disclosure and attestation that fulfills the requirements of CDC Orders: Requirement for Proof of Negative COVID-19 Test Result or Recovery from COVID-19 for All Airline Passengers Arriving into the United States and Order Implementing Presidential Proclamation on Advancing the Safe Resumption of Global Travel During the COVID-19 Pandemic.

2. Requirements for Aircraft Passengers

In addition, I order that any aircraft passenger ¹⁸ who is a Covered Individual under the Proclamation, prior to boarding an aircraft traveling from a foreign country to the United States, shall—

¹⁸ A parent or other authorized individual may present the required documentation on behalf of a passenger under 18 years of age. An authorized individual may act on behalf of any passenger who is unable to act on their own behalf (e.g., by reason of age, or physical or mental impairment).

A. Present to the airline or other aircraft operator a paper or digital documentation reflecting Proof of Being Fully Vaccinated Against COVID-19 and provides a Covered Individual Attestation.

OR

B. If not presenting Proof of Being Fully Vaccinated Against COVID-19, present to the airline or aircraft operator documentation confirming that they are an Excepted Covered Individual under the Proclamation and this Order, as applicable and as further explained by CDC in Technical Instructions for this Order.

C. If an Excepted Covered Individual, accurately complete and provide the airline or aircraft operator with a Covered Individual Attestation, as applicable and as further explained by CDC in Technical Instructions for this Order, attesting that the Excepted Covered Individual:

a. Is excepted from the requirement to present Proof of Being Fully Vaccinated Against COVID-19 for one of the reasons set forth in the Proclamation and this Order;

b. agrees and has arranged to be tested with a COVID-19 viral test 3-5 days after arriving in the United States, unless the Excepted Covered Individual has documentation of having recovered from COVID-19 in the past 90 days;

c. agrees and has arranged to self-quarantine, even if the test result to the post-arrival viral test is negative, unless the Excepted Covered Individual has documentation of having recovered from COVID-19 in the past 90 days; and

d. agrees and has arranged to self-isolate if the result of the post-arrival viral test is positive or if they develop COVID-19 symptoms.

D. If an Excepted Covered Individual, provide the airline or aircraft operator with a Covered Individual Attestation, as applicable and as further explained by CDC in Technical Instructions for this Order, additionally attesting that the Excepted Covered Individual:

(1) Agrees to be vaccinated and has arranged to become fully vaccinated against COVID-19 within 60 days after arriving in the United States, or as soon thereafter as is medically appropriate as determined by CDC, if intending to stay in the United States for more than 60 days, unless the individual is excepted from this requirement.

E. Retain a copy of the applicable documentation listed in parts A, B, C, and D of this section and produce such documentation upon request, or as required by, any U.S. government official or a cooperating state, local, territorial, or tribal public health authority after arrival in the United States.

Willfully giving false or misleading information to the government may result in criminal penalties under, inter alia, 18 U.S.C. 1001.

This Order shall be enforced through the relevant provisions of law, in coordination with other federal departments and agencies, including the U.S. Department of Justice, U.S. Department of Homeland Security, U.S. Department of State, and U.S. Department of Transportation.

Effective Date

This Order shall enter into effect at 12:01 a.m. EST (5:01 a.m. GMT) on November 8, 2021.

BILLING CODE 4163-18-P

Authority

The authority for the Presidential Proclamation is Sections 1182(f) and 1185(a)(1) of Title 8, and Section 301 of Title 3, United States Code. CDC's Order is issued pursuant to the Presidential Proclamation.

Sherri Berger,
Chief of Staff, Centers for Disease Control and Prevention.

[FR Doc. 2021-24385 Filed 11-3-21; 4:15 pm]

BILLING CODE 4163-18-C